DEPARTMENT OF THE INTERIOR

Bureau of Land Management

[CACA 43949, LLCA930000, 3810-FF-P]

Public Land Order No. 7807: Withdrawal of Public Lands for the Camp Michael Monsoor Mountain Warfare and Training Facility, California

AGENCY: Bureau of Land Management, Interior.

ACTION: Public Land Order.

SUMMARY: This order withdraws 3,385.89 acres, more or less, of public lands from settlement, sale, location, and entry under the general land laws, including the United States mining laws, for a period of 20 years for use by the Department of the Navy for the Camp Michael Monsoor Mountain Warfare and Training Facility. This withdrawal also transfers administrative jurisdiction of the lands to the Department of the Navy.

DATES: Effective Date: January 17, 2013.

FOR FURTHER INFORMATION CONTACT: Heather Fullerton, address: Bureau of Land Management, California State Office, 2800 Cottage Way, Suite-W-1834, Sacramento, CA 95825-1886; telephone: 916-978-4634. Persons who use a telecommunications device for the deaf (TDD) may call the Federal Information Relay Service (FIRS) at 1-800-877-8339 to reach the Bureau of Land Management contact. The FIRS is available 24 hours a day, 7 days a week, to leave a message or question with the above individual. You will receive a reply during normal business hours.

SUPPLEMENTARY INFORMATION: This order withdraws 3,385.89 acres of lands, more or less, from public use for the Department of the Navy. The area, known as Camp Michael Monsoor Mountain Warfare Training Facility, is being developed to maintain the operational readiness of Naval Special Warfare Forces.

Order

By virtue of the authority vested in the Secretary of the Interior by Section 204 of the Federal Land Policy and Management Act of 1976, (43 U.S.C. 1714), it is ordered as follows:

1. Subject to valid existing rights, the following described public lands are hereby withdrawn from settlement, sale, location, and entry under the general land laws, including the United States mining laws, but not from leasing under the mineral leasing laws, and administrative jurisdiction is transferred to the Department of the Navy for use as a mountain warfare training facility:

San Bernardino Meridian

T. 17 S., R. 5 E.,

Sec. 14, W½;

Sec. 15, SE¼NE¼ and S½SE¼;

Sec. 22, lots 1 and 2, NE¼, E½NW¼, E½SW¼, and W½SE¼;

Sec. 23, lots 1 and 2, N½, E½SW¼, and SE¼;

Sec. 24, lots 4, 5, 20, 22, 24, 26, and SW¼SW¼;

Sec. 25;

Sec. 26, lots 1 and 2, NE¼, E½NW¼, NE¼SW¼, N½SE¼, and SE¼SE¼;

Sec. 27, lots 1, 9, and 10;

Sec. 34, lot 7, and NE¼SE¼;

Sec. 35, lots 2, 3, and 4, NE¼, S½NW¼, N½SW¼, and N½SE¼.

T. 18 S., R. 5 E.,

Sec. 2, NE¼NE¼.

The areas described aggregate 3,385.89 acres, more or less, in San Diego County.

2. The withdrawal made by this order does not alter the applicability of those public land laws governing the use of the lands under lease, license, or permit, or governing the disposal of their mineral or vegetative resources other than those under the mining laws.

3. This withdrawal will expire 20 years from the effective date of this order unless, as a result of a review conducted before the expiration date pursuant to Section 204(f) of the Federal Land Policy and Management Act, (43 U.S.C. 1714(f)), the Secretary determines that the withdrawal shall be extended.

Dated: December 14, 2012.
Rhea S. Suh,
Assistant Secretary—Policy, Management and Budget.

[FR Doc. 2013-00926 Filed 1-16-13; 8:45 am]

BILLING CODE 4310-40-P